DEPARTMENT OF AGRICULTURE

Forest Service

Madera County Resource Advisory Committee

AGENCY: Forest Service, USDA.

ACTION: Notice of Resource Advisory Committee Meeting.

SUMMARY: Pursuant to the authorities in the Federal Advisory Committee Act of 1972 (Pub. L. 92-463) and under the secure Rural Schools and Community Self-Determination Act of 2000 (Public Law 106-393) the Sierra National Forest's Resource Advisory Committee for Madera County will meet on Monday, March 15, 2004. The Madera Resource Advisory Committee will meet at the USDA Forest Service Office, North Fork, CA. The purpose of the meeting is: New RAC proposal presentations, review RAC post funding process, review Holistic Goal & Evaluation Criteria, Arrowhead presentation, and review Sierra Business Council book.

DATES: The Madera Resource Advisory Committee meeting will be held Monday, March 15, 2004. The meeting will be held from 7 p.m. to 9 p.m.

ADDRESSES: The Madera County RAC meeting will be held at the USDA Forest Service Office, 57003 Road 225, North Fork, CA 93643.

FOR FURTHER INFORMATION CONTACT: Dave Martin, U.S.D.A., Sierra National Forest, Bass Lake Ranger District, 57003 Road 225, North Fork, CA, 93643 (559) 877-2218 ext. 3100; e-mail: dmartin05@fs.fed.us.

SUPPLEMENTARY INFORMATION: Agenda items to be covered include: (1) New RAC proposal presentations, (2) review RAC post funding process, (3) review Holistic Goal & Evaluation Criteria, (4) Arrowhead presentation, and (5) review of Sierra Business Council book. Public input opportunity will be provided and individuals will have the opportunity to address the Committee at that time.

Dated: February 19, 2004.
Mark D. Lemon,
Acting District Ranger, Bass Lake Ranger District.

[FR Doc. 04-4237 Filed 2-25-04; 8:45 am]

BILLING CODE 3410-11-M